DEPARTMENT OF COMMERCE

Patent and Trademark Office

National Telecommunications and Information Administration

Notice of First Public Meeting on the Establishment of a Multistakeholder Forum on Improving the Operation of the Notice and Takedown System Under the DMCA (as Called for in the Department of Commerce Green Paper, Copyright Policy, Creativity, and Innovation in the Digital Economy)

AGENCY: Office of the Secretary, U.S. Department of Commerce; United States Patent and Trademark Office, U.S. Department of Commerce; National Telecommunications and Information Administration, U.S. Department of Commerce.

ACTION: Notice of public meeting.

SUMMARY: In the Department of Commerce's Internet Policy Task Force (Task Force) Green Paper on Copyright Policy, Creativity, and Innovation in the Digital Economy (Green Paper), released on July 31, 2013, the Task Force stated its intention to establish a multistakeholder forum aimed at improving the operation of the notice and takedown system for removing infringing content from the Internet under the Digital Millennium Copyright Act (DMCA). In accordance with its previous recommendations and announcements, the Task Force will launch the multistakeholder forum with an initial meeting on March 20, 2014.

DATES: The public meeting will be held on March 20, 2014, from 9:00 a.m. to 4:00 p.m., Eastern Daylight Time.

ADDRESSES: The Task Force will hold the initial public meeting of the multistakeholder forum at the United States Patent and Trademark Office in the Madison Auditorium on the concourse level of the Madison Building, which is located at 600 Dulany Street, Alexandria, VA 22314. All major entrances to the building are accessible to people with disabilities.

FOR FURTHER INFORMATION CONTACT: For further information regarding the meeting, contact Hollis Robinson or Darren Pogoda, Office of Policy and International Affairs, United States Patent and Trademark Office, Madison Building, 600 Dulany Street, Alexandria, VA 22314; telephone (571) 272-9300; email hollis.robinson@uspto.gov or darren.pogoda@uspto.gov.

Please direct all media inquiries to the Office of the Chief Communications Officer, USPTO, at (571) 272-8400.

SUPPLEMENTARY INFORMATION:

Background

In the Department of Commerce's Internet Policy Task Force (Task Force) Green Paper on Copyright Policy, Creativity, and Innovation in the Digital Economy (Green Paper), released on July 31, 2013, and in a subsequent request for public comments (issued on October 3, 2013), the Task Force stated its intention to establish an open multistakeholder forum aimed at improving the operation of the notice and takedown system for removing infringing content from the Internet under the Digital Millennium Copyright Act (DMCA). See Request for Public Comments and Notice of Public Meeting, 78 FR 61337 (Oct. 3, 2013), available at http://www.ntia.doc.gov/files/ntia/publications/ntia_pto_rfc_10032013.pdf.

On December 12, 2013, the Task Force held a public meeting to discuss the Green Paper, including the proposed open multistakeholder forum. The Task Force also sought comment from stakeholders both prior to and after the December 12, 2013 meeting. An archive of the webcast of the public meeting is available at http://new.livestream.com/uspto/copyright. A transcript of the public meeting is available at http://www.uspto.gov/ip/global/copyrights/121213-USPTO-Green_Paper_Hearing-Transcript.pdf. Copies of the comments received are available at http://www.uspto.gov/ip/global/copyrights/green_paper_public_comments.jsp.

The goal of the open multistakeholder forum is to provide a collaborative forum through which stakeholders will identify best practices and/or produce voluntary agreements for improving the operation of the DMCA notice and takedown system.

The initial meeting will focus on identifying discrete topics to be addressed through the multistakeholder forum. We also intend to discuss and make decisions about the process for the forum's ongoing work. The Task Force wants to ensure participation by a wide variety of the notice and takedown system's current users, including right holders and individual creators, service providers, and any other stakeholders that are directly affected—such as consumer and public interest representatives, technical and engineering experts, and companies in the business of identifying infringing content. The Department's role in the open multistakeholder process will be to provide a forum for discussion and consensus-building among stakeholders. Stakeholder groups convened for this process will not be advisory committees to the government, as neither the Department of Commerce nor any other Federal agency or office will seek advice or recommendations on policy issues from participants. Subsequent meetings will take place approximately every six weeks, alternating between the USPTO main campus and Silicon Valley, at a location to be announced. These meetings will be webcast.

Future Roundtable Discussions

The Department of Commerce will also be hosting roundtable discussions on three additional issues identified in the Green Paper—remixes, first sale, and statutory damages—in several cities over the next few months. Further details will be announced in an upcoming Federal Register notice, on the USPTO and Task Force Web sites, and through the USPTO's Copyright Alerts subscription, which can be found at enews.uspto.gov.

Public Meeting

On March 20, 2014, the Task Force will hold an initial public meeting of this multistakeholder forum aimed at improving the operation of the notice and takedown system for removing infringing content from the Internet under the Digital Millennium Copyright Act (DMCA).

The meeting will be webcast. The agenda and webcast information will be available on the Internet Policy Task Force Web site, http://www.ntia.doc.gov/internetpolicytaskforce and the USPTO's Web site, http://www.uspto.gov/ip/global/copyrights/index.jsp.

The meeting will be open to members of the public to attend, space permitting, on a first-come, first-served basis. Members of the public can RSVP at http://events.Signup4.com/copyrightgreenpaper. The meeting will be physically accessible to people with disabilities. Individuals requiring accommodation, such as sign language interpretation, real-time captioning of the webcast or other ancillary aids, should communicate their needs to Hollis Robinson, Office of Policy and International Affairs, United States Patent and Trademark Office, Madison Building, 600 Dulany Street, Alexandria, VA 22314; telephone (571) 272-9300; email hollis.robinson@uspto.gov at least seven (7) business days prior to the meeting. Attendees should arrive at least one-half hour prior to the start of the meeting, and must present valid government-issued photo identification upon arrival.

Dated: March 5, 2014.
Michelle K. Lee,
Deputy Under Secretary of Commerce for Intellectual Property and Deputy Director of the United States Patent and Trademark Office.
Lawrence E. Strickling,
Assistant Secretary of Commerce for Communications and Information.

[FR Doc. 2014-05159 Filed 3-10-14; 8:45 am]

BILLING CODE 3510-16-P